DEPARTMENT OF TRANSPORTATION

Federal Aviation Administration

Notice Before Waiver With Respect to Land at Lonesome Pine Airport, Wise, VA

AGENCY: Federal Aviation Administration (FAA), DOT.

ACTION: Notice of intent of waiver with respect to land.

SUMMARY: The FAA is publishing notice of proposed release of 0.81 acres of land at the Lonesome Pine Airport, Wise, Virginia to the town of Wise or Wise county Industrial Development Authority (Property Map Parcel 35). The release of land will transfer the responsibility (and potential liability) for maintenance and security of the water tank site to the appropriate governmental entity. Releasing the land does not adversely impact theAirport and the land is not needed for airport development as shown on the Airport Layout Plan. Fair Market Value of the land has been assessed and will be provided to The Cumberlands Airport Commission for Airport and commission operational expenses.

DATES: Comments must be received on or before September 21, 2007.

ADDRESSES: Comments on this application may be mailed or delivered in triplicate to the FAA at the following address: Terry J. Page, Manager, FAA Washington Airports District Office, 23723 Air Freight Lane, Suite 210, Dulles, VA 20166.

In addition, one copy of any comments submitted to the FAA must be mailed or delivered to Walter H. Witt, Cumberlands Airport Commission, at the following address: Walter H. Witt, Chairman, Cumberlands Airport Commission, PO Box 1752, Wise, Virginia 24293.

FOR FURTHER INFORMATION CONTACT: Mr. Terry Page, Manager, Washington Airports District Office, 23723 Air Freight Lane, Suite 210, Dulles, VA 20166; telephone (703) 661-1354, fax (703) 661-1370, e-mail Terry.Page@faa.gov.

SUPPLEMENTARY INFORMATION: On April 5, 2000, new authorizing legislation became effective. That bill, the Wendell H. Ford Aviation investment and Reform Act for the 21st Century, Public Law 10-181 (Apr. 5, 2000; 114 Stat. 61) (AIR 21) requires that a 30-day public notice must be provided before the Secretary may waive any condition imposed on an interest in surplus property.

Issued in Chantilly, Virginia on June 20, 2007.
Terry J. Page,
Manager, Washington Airports District Office Eastern Region.

[FR Doc. 07-4105 Filed 8-21-07; 8:45 am]

BILLING CODE 4910-13-M